DEPARTMENT OF THE INTERIOR

Bureau of Reclamation

Windy Gap Firming Project, Colorado-Big Thompson Project, Colorado

AGENCY: Bureau of Reclamation, Interior.

ACTION: Notice of intent to prepare an environmental impact statement.

SUMMARY: On April 14, 2003, the Municipal Subdistrict of the Northern Colorado Water Conservancy District, acting by and through the Windy Gap Firming Project (Firming Project) Water Activity Enterprise (Subdistrict), requested approval from the Bureau of Reclamation (Reclamation) to connect the proposed Firming Project to Reclamation's Colorado-Big Thompson Project (C-BT). If connection to the C-BT is approved, the Subdistrict would construct facilities that would be required to meet the purpose and need of the project. This could include construction of one or more new reservoirs. Because the Subdistrict's proposal involves a physical connection to C-BT facilities, it was determined that Reclamation should be the lead Federal agency for NEPA compliance.

DATES: Written comments on the scope of the issues and alternatives to be evaluated in the EIS will be accepted and should be postmarked or e-mailed by November 7, 2003, to be most effective.

Public scoping meetings, each beginning at 6:30 p.m., will be held on the following dates:

• September 30, 2003—Granby, Colorado

• October 1, 2003—Loveland, Colorado

• Date to be determined—Lyons, Colorado

ADDRESSES: The meeting locations are:

• Granby—Inn at Silver Creek (2 miles south of Granby, east side of highway), 62927 U.S. Highway 40, Granby, CO 80446.

• Loveland—McKee Conference Center, 2000 North Boise Avenue, Loveland, CO 80538.

• Lyons—Location will be announced through mailings, paid advertisements, and news releases to news media in the area.

Please send comments on the alternatives or other issues pertaining to the proposed project to the attention of Will Tully, Windy Gap Firming Project EIS, Bureau of Reclamation, Eastern Colorado Area Office, 11056 W. County Road 18E, Loveland, CO 80537; or FAX to (970) 663-3212 or (970) 962-4216; or e-mail to wtully@gp.usbr.gov.

FOR FURTHER INFORMATION CONTACT: Anyone interested in more information about the EIS or the project may contact Will Tully by telephone at (970) 962-4368 or by e-mail at wtully@gp.usbr.gov.

SUPPLEMENTARY INFORMATION: Pursuant to section 102(2)(c) of the National Environmental Policy Act (NEPA) of 1969, as amended, Reclamation will prepare an environmental impact statement (EIS) to identify the environmental effects of the proposed project. Cooperating agencies will be identified at a later date.

Reclamation will use the NEPA compliance process to ensure that the public has opportunities to review and comment on the direct and indirect effects of the proposed action. Public comments are invited regarding both the scope of environmental and socioeconomic issues and alternatives that should be evaluated in the EIS.

Reclamation and the Subdistrict will hold at least three public scoping meetings in which Federal, State, local and tribal government agencies, non-governmental organizations, and the public are invited to participate in the open exchange of information and to submit comments on the proposed scope of the EIS. Comments received will be considered in preparation of the EIS.

During the 1960's, six entities (the cities of Boulder, Greeley, Longmont, Loveland, and Fort Collins and the Town of Estes Park) in northeastern Colorado determined that additional water supplies were needed to meet their projected municipal demands. The Municipal Subdistrict of the Northern Colorado Water Conservancy District, consisting of the incorporated areas of the six entities, was formed in 1970 to develop the Windy Gap Project. Subsequently, the Platte River Power Authority acquired all of the City of Fort Collins allotment contracts, as well as one-half of the City of Loveland and the Town of Estes Park contracts. The Windy Gap Project water was proposed to be stored by and conveyed through the C-BT Project facilities prior to delivery to Windy Gap Project allotees for storage and ultimate use.

In 1981, Reclamation completed an environmental impact statement on the effects of using C-BT project facilities for the “storage, carriage and delivery” of Windy Gap Project water. That EIS addressed the environmental and other effects of annually diverting an average of 56,000 acre-feet of water from the Upper Colorado River Basin through the Windy Gap Project and C-BT Project facilities. The Record of Decision for that EIS allowed Reclamation to negotiate a contract with the Municipal Subdistrict of the Northern Colorado Water Conservancy District for the conveyance, through C-BT Project facilities, of an average of about 56,000 acre-feet of Windy Gap Project water annually from the Colorado River, with maximum diversions limited to 93,300 acre-feet in any 1 year. Average annual deliveries to the allottees of the Windy Gap Project were estimated to be about 48,000 acre-feet, following conveyance and evaporation losses and allocations to the Middle Park Water Conservancy District. Each unit of Windy Gap water is 1/480th of the annual yield of the Windy Gap Project and originally estimated to be 100 acre-feet per unit. Reclamation, the Municipal Subdistrict of the Northern Colorado Water Conservancy District, and the Northern Colorado Water Conservancy Distrct (District) then entered into a contract for the “storage, carriage and delivery” of Windy Gap Project water in C-BT facilities. Construction of the Windy Gap Project reservoir, pipeline, and pumping facility was completed in 1985.

Average annual yield per unit since completion of construction has been approximately 17 acre-feet/unit compared to the original estimated 100 acre-feet/unit. There are several reasons for this low yield. During the early years after construction, not all of the Project allotees needed their full allocation of water from the Project. They had not grown into the full demand for which the Project was developed. Also, the Windy Gap Project cannot divert water every year because more senior water rights upstream and downstream have a higher priority to divert water. Additionally, under the contract between the Municipal Subdistrict of the Northern Colorado Water Conservancy District, the District, and Reclamation, water conveyed and stored for the C-BT Project has priority over water conveyed and stored for the Windy Gap Project. In years when the C-BT system is full, there is no conveyance or storage capacity in the C-BT system for Windy Gap Project water. In years when Windy Gap Project water is stored in the C-BT system, Windy Gap Project water is sometimes spilled from the system to make room for C-BT Project water.

Purpose of and Need for the Federal Action

The purpose of the proposed Firming Project is to maximize the use of existing water rights associated with the Windy Gap Project by improving the delivery and reliability of the existing Windy Gap Project water supply. For some Firming Project participants, the proposed project does not firm all of their Windy Gap Project units and not all of the owners of Windy Gap Project water are seeking to firm their units. Thus, only a portion of the 48,000 acre-feet of Windy Gap Project water would be “firmed” by the proposed action.

The specific purpose of the project is to provide an annual delivery of up to 30,000 acre-feet of water by 2008 depending on the identified needs of the Firming Project participants. Each Firming Project participant owns varying amounts of Windy Gap Project water and each Firming Project participant has determined its firm water supply needs from the Windy Gap Project and the timing of those needs. For some of the Firming Project participants, an increased water supply is needed immediately to meet current demands; other participants' needs are expected to increase over the next several years creating a foreseeable future need for their Windy Gap Project water.

The Firming Project is a non-Federal project. It is proposed to be constructed and operated by the Subdistrict. Federal actions related to the proposed project may include decisions on permitting the connection of Firming Project facilities to C-BT facilities, granting of right-of-way permits and/or easements across Federal lands, and issuance of a Federal Clean Water Act Section 404 permit.

Proposed Alternatives

Over the past several years, the Subdistrict has investigated a wide range of alternative actions with the potential to meet the needs of the Firming Project participants. These investigations concluded with an Alternative Plan Formulation Report that was finalized in 2003.

The primary goals in developing alternatives for the proposed project were:

• To identify a cooperative regional project that could be integrated with existing water delivery systems;

• To allow maximum use of the existing Windy Gap Project diversion, pumping and pipeline facilities, and water rights.

To provide the Firming Project participants a consistent annual yield of up to 30,000 acre-feet, approximately 110,000 acre-feet of new storage is needed specifically for Windy Gap Project water. This is approximately the size of the existing Carter Lake southwest of Loveland, Colorado.

The alternatives study evaluated a variety of project elements including non-structural and operational opportunities; new reservoir sites; enlargement of existing reservoirs; and ground water aquifer storage. Storage on both the East and West Slope of the Continental Divide was evaluated. Technical, environmental, and economic screening criteria were used to identify and compare alternatives capable of meeting the project purpose and need. A combination of alternatives may be necessary to meet the project purpose and need. In addition, refinements in C-BT system operations may be used to enhance the yield of new reservoir storage. These refinements might include options for storage of C-BT Project water in a new Firming Project reservoir or borrowing storage from the C-BT Project. The Firming Project participants' varying needs and timing of those needs could allow the proposed project to be constructed in stages depending on the alternative configuration.

As required by Council on Environmental Quality (CEQ) implementing regulations (40 CFR 1502.2[e]), a full range of reasonable alternatives will be evaluated in the EIS. These alternatives will include No Action and others that will meet the stated purpose and need for the Firming Project. The EIS will evaluate potential environmental impacts of specific alternatives together with engineering and socioeconomic considerations. A preferred alternative has not been identified at this time. Reclamation, with input from Federal, State, and local government agencies and the public, will evaluate the alternatives.

Preliminary Identification of Environmental Issues

The following issues have been tentatively identified for analysis in the EIS. This list is preliminary and is intended to facilitate public comment on the scope of this EIS.

• What are the impacts to aquatic resources including endangered Colorado River fish?

• How would water quality on the west and east slope be affected?

• How would the proposed project affect operation of the C-BT Project and the existing Windy Gap Project?

• How would streamflow in the Colorado River be affected?

• Would this project affect water levels in Lake Granby, Carter Lake, and Horsetooth Reservoir?

• What would be the impact to streams and wetlands?

• How would wildlife habitat be affected?

• Would new reservoirs provide recreational opportunities?

• Would significant cultural resources be affected?

Timing

Issues raised at the scoping meetings will be documented and summarized in a report that will be distributed to public libraries near the meeting locations, posted on Reclamation's web site, and mailed upon request. This report will summarize the comments received and identify those issues that will be evaluated in the EIS.

Reclamation plans to issue the draft EIS in the fall of 2004. Availability of the draft EIS will be publicized and Federal, State, local and tribal government agencies, non-governmental organizations, and the general public will have an opportunity to comment on the draft EIS.

Public Disclosure Statement

Comments received in response to this notice will become part of the administrative record for this project and are subject to public inspection. Comments, including names and home addresses of respondents, will be available for public review. Individual respondents may request that we withhold their home address from public disclosure, which we will honor to the extent allowable by law. There also may be circumstances in which we would withhold a respondent's identity from public disclosure, as allowable by law. If you wish us to withhold your name and/or address, you must state this prominently at the beginning of your comment. Reclamation will make all submissions from organizations or businesses, and from individuals identifying themselves as representatives or officials of organizations or businesses, available for public disclosure in their entirety.

Dated: September 2, 2003.
Gerald W. Kelso,
Acting Regional Director, Great Plains Region.

[FR Doc. 03-22711 Filed 9-5-03; 8:45 am]

BILLING CODE 4310-MN-P